DEPARTMENT OF DEFENSE

Office of the Secretary

[Docket ID: DoD-2023-OS-0124]

Submission for OMB Review; Comment Request

AGENCY: Office of the Under Secretary of Defense for Acquisition and Sustainment (OUSD(A&S)), Department of Defense (DoD).

ACTION: 30-Day information collection notice.

SUMMARY: The DoD has submitted to the Office of Management and Budget (OMB) for clearance the following proposal for collection of information under the provisions of the Paperwork Reduction Act.

DATES: Consideration will be given to all comments received by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Nuclear Test Personnel Review Forms; DTRA Form 150, DTRA Form 150A, DTRA Form 150B, DTRA Form 150D; OMB Control Number 0704-0447.

Type of Request: Extension.

Number of Respondents: 278.

Responses per Respondent: 1.

Annual Responses: 278.

Average Burden per Response: 24.4 minutes.

Annual Burden Hours: 113.

Needs and Uses: The information collection requirement is necessary to provide recognition, verify participation, and/or collect irradiation scenario information from nuclear test participants to perform radiation dose assessments. This information is used to award the Atomic Veterans Service Certificate (AVSC) to eligible veterans and to process claims submitted by veterans seeking radiogenic disease compensation from the Department of Veterans Affairs (VA) and/or the Department of Justice (DOJ). This information may also be used in approved veteran epidemiology studies that study the health impact of nuclear tests on U.S. Veterans. Respondents include Veterans and civilian test participants, and their representatives, who apply for the AVSC or file radiogenic disease compensation claims with the VA or DOJ and require information from the Department of Defense.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 21, 2024.
Aaron T. Siegel,
Alternate OSD Federal Register Liaison Officer, Department of Defense.

[FR Doc. 2024-03984 Filed 2-26-24; 8:45 am]

BILLING CODE 6001-FR-P